DEPARTMENT OF COMMERCE

International Trade Administration

Proposed Information Collection; Comment Request; Procedures for Importation of Supplies for Use in Emergency Relief Work

AGENCY: International Trade Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 10, 2019.

ADDRESSES: Direct all written comments to Jennifer Jessup, Departmental Paperwork Clearance Officer, Department of Commerce, Room 6616, 14th and Constitution Avenue NW, Washington, DC 20230 (or via the internet at PRAcomments@doc.gov).

FOR FURTHER INFORMATION CONTACT: Requests for additional information or copies of the information collection instrument and instructions should be directed to Scott D. McBride, Assistant Chief Counsel for Trade Enforcement & Compliance, Office of the Chief Counsel for Trade Enforcement and Compliance, Room 3622, U.S. Department of Commerce, 14th and Constitution Avenue NW, Washington, DC 20230; telephone: 202-482-6292; fax: 202-482-4912; Scott.McBride@trade.gov.

SUPPLEMENTARY INFORMATION:

I. Abstract

The regulations (19 CFR 358.101 through 358.104) provide procedures for requesting the Secretary of Commerce to permit the importation of supplies, such as food, clothing, and medical, surgical, and other supplies, by for-profit and not-for-profit entities for use in emergency relief work free of antidumping and countervailing duties.

Authority: 19 U.S.C. 1318(a). There are no proposed changes to this information collection.

II. Method of Collection

Three copies of the request must be submitted in writing to the Secretary of Commerce, Attention: Enforcement and Compliance, Central Records Unit, Room B-8024, U.S. Department of Commerce, 1401 Constitution Avenue NW, Washington, DC 20230.

III. Data

OMB Control Number: 0625-0256.

Form Number(s): None.

Type of Review: Regular submission.

Affected Public: Business, including for-profit and non-profit organizations.

Estimated Number of Respondents: 1.

Estimated Time per Response: 15 hours.

Estimated Total Annual Burden Hours: 15 hours.

Estimated Total Annual Cost to Public: Less than $450.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-04323 Filed 3-8-19; 8:45 am]

BILLING CODE 3510-DS-P